DEPARTMENT OF HOMELAND SECURITY

Coast Guard

33 CFR Part 117

[Docket No. USCG-2016-0147]

Drawbridge Operation Regulation; Mianus River, Greenwich, CT

AGENCY: Coast Guard, DHS.

ACTION: Notice of deviation from drawbridge regulation.

SUMMARY: The Coast Guard has issued a temporary deviation from the operating schedule that governs the Metro-North Bridge across the Mianus River, mile 1.0, at Greenwich, Connecticut. This deviation is necessary to allow the bridge owner to perform superstructure repairs and timber ties replacement.

DATES: This deviation is effective from 8 a.m. on March 21, 2016 to 8 a.m. on June 27, 2016.

ADDRESSES: The docket for this deviation, [USCG-2016-0147] is available at http://www.regulations.gov. Type the docket number in the “SEARCH” box and click “SEARCH”. Click on Open Docket Folder on the line associated with this deviation.

FOR FURTHER INFORMATION CONTACT: If you have questions on this temporary deviation, call or email Judy Leung-Yee, Project Officer, First Coast Guard District, telephone (212) 514-4330, email judy.k.leung-yee@uscg.mil.

SUPPLEMENTARY INFORMATION: The Metro-North Bridge, mile 1.0, across the Mianus River, has a vertical clearance in the closed position of 20 feet at mean high water and 27 feet at mean low water. The existing bridge operating regulations are found at 33 CFR 117.209.

The waterway is transited by seasonal recreational traffic.

Connecticut DOT requested a temporary deviation from the normal operating schedule to perform superstructure repairs and timber ties replacement at the bridge.

Under this temporary deviation, the Metro-North Bridge will operate according to the schedule below:

a. From March 21, 2016 8 a.m. to March 25, 2016 4 a.m. the bridge will not open to marine traffic.

b. From March 25, 2016 4 a.m. to March 28, 2016 8 a.m. the bridge will open fully on signal upon 24 hour advance notice.

c. From March 28, 2016 8 a.m. to April 01, 2016 4 a.m. the bridge will not open to marine traffic.

d. From April 01, 2016 4 a.m. to April 04, 2016 8 a.m. the bridge will open fully on signal upon 24 hour advance notice.

e. From April 04, 2016 8 a.m. to April 08, 2016 4 a.m. the bridge will not open to marine traffic.

f. From April 08, 2016 4 a.m. to April 11, 2016 8 a.m. the bridge will open fully on signal upon 24 hour advance notice.

g. From April 11, 2016 8 a.m. to April 15, 2016 4 a.m. the bridge will not open to marine traffic.

h. From April 15, 2016 4 a.m. to April 18, 2016 8 a.m. the bridge will open fully on signal upon 24 hour advance notice.

(Rain dates/Back up dates)

a. From June 13, 2016 8 a.m. to June 17, 2016 4 a.m. the bridge will not open to marine traffic.

b. From June 17, 2016 4 a.m. to June 20, 2016 8 a.m. the bridge will open fully on signal upon 24 hour advance notice.

c. From June 20, 2016 8 a.m. to June 24, 2016 4 a.m. the bridge will not open to marine traffic.

d. From June 24, 2016 4 a.m. to June 27, 2016 8 a.m. the bridge will open fully on signal upon 24 hour advance notice.

Vessels able to pass under the bridge in the closed position may do so at anytime. The bridge will not be able to open for emergencies and there is no immediate alternate route for vessels to pass.

The Coast Guard will inform the users of the waterways through our Local Notice and Broadcast to Mariners of the change in operating schedule for the bridge so that vessel operations can arrange their transits to minimize any impact caused by the temporary deviation.

In accordance with 33 CFR 117.35(e), the drawbridge must return to its regular operating schedule immediately at the end of the effective period of this temporary deviation. This deviation from the operating regulations is authorized under 33 CFR 117.35.

Dated: March 2, 2016.
C.J. Bisignano,
Supervisory Bridge Management Specialist, First Coast Guard District.

[FR Doc. 2016-05076 Filed 3-7-16; 8:45 am]

BILLING CODE 9110-04-P